DEPARTMENT OF AGRICULTURE

Agricultural Marketing Service

[No. AMS-LPS-17-0042]

Request for Approval of a New Information Collection for Beef Producers To Request for State To Retain a Portion of Assessments

AGENCY: Agricultural Marketing Service, USDA.

ACTION: Notice and request for comments.

SUMMARY: In accordance with the Paperwork Reduction Act of 1995, this notice announces the Agency's intent to request emergency approval from the Office of Management and Budget (OMB) for a new information collection for beef producers, where applicable, to provide prior affirmative consent authorizing a state Qualified State Beef Council (QSBC) to retain a portion of their assessments collected under the Beef Promotion and Research Act of 1985 (Act).

DATES: Comments must be received by November 21, 2017. Pursuant to the Paperwork Reduction Act, comments on the information collection burden that would result from this proposal must be received by November 21, 2017.

ADDRESSES: Interested persons are invited to submit comments concerning this notice by using the electronic process available at www.regulations.gov. Written comments may also be submitted to Research and Promotion Division; Livestock, Poultry, and Seed Program; AMS, USDA, Room 2608-S, STOP 0249; 1400 Independence Avenue SW, Washington, DC 20250-0249; or facsimile to (202) 720-1125. All comments should reference the docket number AMS-LPS-17-0042, the date of submission, and the page number of this issue of the Federal Register. All comments received will be posted without change, including any personal information provided at www.regulations.gov and will be included in the record and made available for public inspection at the above office during regular business hours.

FOR FURTHER INFORMATION CONTACT: Mike Dinkel, Research and Promotion Division, at (301) 352-7497; facsimile (202) 720-1125; or by email at Michael.Dinkel@ams.usda.gov.

SUPPLEMENTARY INFORMATION:

Overview of This Information Collection

Agency: AMS.

Title: Beef Research and Promotion Program: Producer Request for State to Retain Checkoff Assessment Form.

OMB Number: 0581-NEW.

Type of Request: New Information Collection.

Abstract: Congress has delegated the U.S. Department of Agriculture (USDA) the responsibility for implementing and overseeing the Beef Research and Promotion Program. The enabling legislation for the Beef Research and Promotion Program is the Act (7 U.S.C. 2901-2911).

On June 21, 2017, a U.S. District Court Judge in Montana granted a preliminary injunction enjoining USDA from continuing to allow the Montana Beef Council (MBC) to use the assessments that it is qualified to collect under the Beef Checkoff Program to fund advertising campaigns, unless a cattle producer provides prior affirmative consent authorizing MBC to retain a portion of the cattle producer's assessment. As a result of this preliminary injunction, MBC must begin forwarding all Beef Checkoff Program funds directly to the Cattlemen's Beef Promotion and Research Board (Beef Board), absent proof that a producer has provided advance affirmative consent authorizing MBC to retain a portion of that producer's assessment.

By law, all cattle producers, except organic producers, must pay $1-per-head assessment as required under the Act and the Beef Promotion and Research Order (Order). Importers of cattle, beef, and beef products pay an equivalent amount. Under the Act and Order, QSBCs are responsible for collecting monthly assessments.

Effective immediately as a result of the preliminary injunction, beef producers in Montana must provide prior affirmative consent to retain up to 50 cents of the $1 Federal assessment with MBC. Otherwise their full assessment will be forwarded to and retained by the Beef Board.

The Order and the regulation governing the Beef Research and Promotion Program authorize the Beef Board to collect and submit certain information as required. The information will be used by certain beef producers who seek to have their assessments remain in the state where a QSBC exists instead of being forwarded to the Beef Board.

AMS developed this form to effectively carry out the court order. At this time, one form would permit beef producers to retain a portion of the Federal assessment rather than remitting the full Federal assessment to the national program. The form AMS developed is LPS-2 Producer Request to Retain Beef Checkoff Assessment Form—the purpose of the form will be used by certain beef producers who request that a portion of their required Federal assessment be retained by the QSBC.

Upon Office of Management and Budget (OMB) approval of the new form LPS-2 and the information collection package, AMS will request OMB approval to merge the new form and this information collection in the currently approved information collection OMB control number 0581-0093.

Estimate of Burden for LPS-2: Public reporting burden for this collection of information is estimated to average 5 minutes per cattle producer.

Respondents: Beef producers in certain states.

Estimated Number of Respondents: 100.

Estimated Number of Responses per Respondent per Year: 1.

Estimated Total Annual Burden on Respondents: 8.30 hours.

Comments: Comments are invited on: (1) Whether the collection of information is necessary for the proper performance of the functions of the Agency, including whether the information will have practical utility; (2) the accuracy of the Agency's estimate of the burden of the collection of information, including the validity of the methodology and assumptions used; (3) ways to enhance the quality, utility, and clarity of the information to be collected; and (4) ways to minimize the burden of the collection of information on those who are to respond, including the use of appropriate automated, electronic, mechanical, or other technological collection techniques of other forms of information technology.

All responses to this document will be summarized and included in the request for OMB approval. All responses will become a matter of public record, including any personal information provided.

Dated: September 18, 2017.
Bruce Summers,
Acting Administrator, Agricultural Marketing Service.

[FR Doc. 2017-20184 Filed 9-21-17; 8:45 am]

BILLING CODE 3410-02-P